DEPARTMENT OF DEFENSE

Department of the Army

Availability of the Record of Decision for the Construction and the Operation of a Battle Area Complex and a Combined Arms Collective Training Facility Within U.S. Army Training Lands in Alaska

AGENCY: Department of the Army, DoD.

ACTION: Notice.

SUMMARY: The Army announces the availability of its Record of Decision (ROD) for the construction and operation of a Battle Area Complex (BAX) and a Combined Arms Collective Training Facility (CACTF) within U.S. Army training lands in Alaska, and the execution of routine, joint military training at these locations. Or June 14, 2006, the Army published a notice of availability of its Final Environmental Impact Statement (EIS) that considered the environmental consequences of the proposed action and alternatives. The ROD was signed in July 2006 and was prepared pursuant to the National Environmental Policy Act (NEPA). The ROD explains and finalizes the Army's decision to proceed with construction and operation of the BAX and CACTF at Eddy Drop Zone. This decision was based on the analysis described in the Final EIS, supporting studies, and comments provided during formal comment and review periods.

The decision also affirms the Army's commitment to implementing a series of mitigation and monitoring measures to offset potential adverse environmental impacts associated with the selected action, as identified in the Final EIS.

FOR FURTHER INFORMATION CONTACT: Major Kirk Gohlke, Public Affairs Officer, U.S. Army, Alaska, telephone: (907) 384-1542; facsimile: (907) 384-2060; e-mail: kirk.gohle@richardson.army.mil.

SUPPLEMENTARY INFORMATION: U.S. Army, Alaska (USARAK) will construct and operate two state-of-the-art, fully automated and instrumented combat training facilities. This involves the construction and operation of a BAX (rural environment) and CACTF (urban environment) at Eddy Drop Zone. The BAX will encompass approximately 2,872 acres and the CACTF will encompass 1,184 acres of land suitable for the construction and operation of these ranges. In addition, surface danger zones are required for both the BAX and CACTF.

The purpose of the action is to provide year-round, fully automated, comprehensive, and realistic training and range facilities, which, in combination, will support company (200 Soldiers) through battalion (800 Soldiers) combat team training events. The construction and operation of a BAX and CACTF at Eddy Drop Zone will support required higher levels of realistic combat in both urban and rural environments. Automated facilities will be used to provide timely feedback that is critical to effective training.

The BAX and CACTF will fully train Soldiers for war by maintaining unit readiness and availability in recognition of the threats facing our nation and the world today. The BAX will support company combat team live-fire operations on a fully automated rural maneuver range and will provide for joint combined arms team training with other Department of Defense organizations. The CACTF will support battalion combat team training and joint operations in an urban environment.

The ROD includes a description of environmental and cultural resource management, monitoring and mitigation programs.

The ROD and Final EIS are available at the following Web site: http://www.usarak.army.mil/conservation, or may be requested by contacting Major Kirk Gohlke (listed above).

John M. Brown III,
Lieutenant General, USA, Commanding General, U.S. Army, Pacific.

[FR Doc. 06-6639 Filed 8-1-06; 8:45 am]

BILLING CODE 3710-08-M